DEPARTMENT OF HEALTH AND HUMAN SERVICES

Administration for Children and Families

Proposed Information Collection Activity; Comment Request

Proposed Projects

Title: Mentoring Children of Prisoners Service Delivery Demonstration Project Data Collection.

OMB No.: New Collection.

Description: The Promoting Safe and Stable Families Amendments, as reauthorized (2006), amended Title IV-B of the Social Security Act (42 U.S.C. 629-629e) providing funding for a service delivery demonstration project for the Mentoring Children of Prisoners (MCP) program. Grantees shall identify children of prisoners not being served by the grant program, provide families of identified children with a voucher for mentoring services and a list of quality mentoring programs, and monitor the delivery of mentoring services provided. The Family and Youth Services Bureau (FYSB) of the Administration for Children and Families (ACF), United States Department of Health and Human Services, administers the MCP program.

The MCP program provides children of prisoners with caring adult mentors, supporting one-to-one mentoring relationships. Research in other populations has shown that such relationships can lead to reductions in risk behaviors and improvements in academic, behavioral, and psychological outcomes in children and youth. Although the MCP program was developed based on research documenting the efficacy of mentoring as a general intervention strategy, it is not yet known if this particular intervention yields positive outcomes for the children of prisoners population. Little is known about how mentoring relationships work for these youth and how effective mentoring relationships for children of prisoners differ from effective mentoring relationships for other youth. In addition, little is known about children of prisoners in general and thus a survey of MCP program youth has the potential to provide important data about this relatively unstudied population.

The evaluation and data collection proposed in this notice are to fulfill the statutory requirement under Section 8, subsection h(l) of the Child and Family Services Improvement Act of 2006, as amended, that the Secretary of the Department of Health and Human Services evaluate outcomes of the MCP service delivery demonstration project and report to Congress on the findings. The information collected will also be used for accountability monitoring, management improvement, and research.

Data collection will ensure that grantees know that mentoring relationships are meeting the established milestones and that mentoring activities are faithful to characteristics established by research as essential to success. Data collected will allow ACF to compare the MCP service delivery demonstration project with the MCP grant program. Data collected will also support grantees as they carry out ongoing responsibilities and manage information for internal use.

Respondents: Public, faith-based and community organizations applying to and implementing the MCP service delivery demonstration project.

Annual Burden Estimates
Instrument | Number of respondents | Number of responses per respondent | Average burden hours per response | Total burden hours
Child Application | 4,200 | 1 | .5 | 2,100
Program Application | 325 | 1 | 2 | 650
MentorPRO Basic:
Mentoring Practices and Relationship Data | 250 | 120 | .5 | 15,000
Baseline Youth Survey | 3,000 | 1 | .5 | 1,500
Follow-up Youth Survey | 2,000 | 1 | .5 | 1,000
Relationship Quality Survey | 2,250 | 1 | .5 | 1,125
Program Survey | 250 | 1 | .5 | 125
Mentor Survey | 2,000 | 1 | .5 | 1,000
Payment Information | 1 | 52 | 2 | 104

Estimated Total Annual Burden Hours: 22,604.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 23, 2008.
Janean Chambers,
Reports Clearance Officer.

[FR Doc. E8-9292 Filed 4-30-08; 8:45 am]

BILLING CODE 4184-01-M